DEPARTMENT OF COMMERCE

International Trade Administration

[A-570-827]

Certain Cased Pencils From the People's Republic of China: Final Results of Antidumping Duty Administrative Review; 2017-2018

AGENCY: Enforcement and Compliance, International Trade Administration, Department of Commerce.

SUMMARY: The Department of Commerce (Commerce) determines that Fila Dixon Stationery (Kunshan) Co., Ltd. (Kunshan Dixon) is not eligible for a separate rate and, therefore, remains part of the China-wide entity. The period of review (POR) is December 1, 2017 through November 30, 2018.

DATES: Applicable March 27, 2020.

FOR FURTHER INFORMATION CONTACT: Sergio Balbontin or Brian Smith, AD/CVD Operations, Office VIII, Enforcement and Compliance, International Trade Administration, Department of Commerce, 1401 Constitution Avenue NW, Washington, DC 20230; telephone: (202) 482-6478, or (202) 482-1766, respectively.

SUPPLEMENTARY INFORMATION:

Background

Commerce published the Preliminary Results on October 10, 2019, and invited interested parties to comment.¹ Kunshan Dixon and its affiliate Beijing Fila Dixon Stationery Co., Ltd. (Beijing Dixon) (the Dixon Companies) submitted a case brief.² For the events that occurred subsequent to the Preliminary Results, see Commerce's Issues and Decision Memorandum.³

¹ See Certain Cased Pencils from the People's Republic of China: Preliminary Results of Antidumping Duty Administrative Review and Rescission of Review, in Part; 2017-2018, 84 FR 54592 (October 10, 2019) (Preliminary Results) and accompanying Preliminary Decision Memorandum.

² See the Dixon Companies' Letter, “Certain Cased Pencils from the People's Republic of China: Case Brief and Request for hearing by Fila Dixon Stationery (Kunshan) Co., Ltd. (Case No. A-570-827),” dated November 12, 2019 (Dixon Companies' Case Brief).

³ See Memorandum, “Certain Cased Pencils from the People's Republic of China: Issues and Decision Memorandum for the Final Results; 2017-2018,” dated concurrently with, and hereby adopted by, this notice (Issues and Decision Memorandum).

Scope of the Order

The merchandise subject to the order includes certain cased pencils from China. The subject merchandise is currently classifiable under Harmonized Tariff Schedule of the United States (HTSUS) subheading 9609.10.00. Although the HTSUS subheading is provided for convenience and customs purposes, the written product description is dispositive. A full description of the scope of the order is contained in the Issues and Decision Memorandum.

Analysis of Comments Received

In the Issues and Decision Memorandum, we addressed all issues raised in the Dixon Companies' Case Brief. In the Appendix to this notice, we provide a list of these issues. The Issues and Decision Memorandum is a public document and is on file electronically via Enforcement and Compliance's Antidumping and Countervailing Duty Centralized Electronic Service System (ACCESS). ACCESS is available to registered users at https://access.trade.gov and to all parties in the Central Records Unit, Room B8024 of the main Commerce building. In addition, a complete version of the Issues and Decision Memorandum can be accessed directly at http://enforcement.trade.gov/frn. The signed Issues and Decision Memorandum and the electronic version of the Issues and Decision Memorandum are identical in content.

Changes From the Preliminary Results

Based on our analysis of the comments received, Commerce has not revised the Preliminary Results.

Methodology

Commerce has conducted this review in accordance with section 751(a)(1)(B) of the Tariff Act of 1930, as amended (the Act). In the Preliminary Results, Commerce determined that Kunshan Dixon was ineligible for a separate rate and is part of the China-wide entity, subject to the China-wide entity rate of 114.90 percent.⁴ As we have not received any information since the issuance of the Preliminary Results that provides a basis for reconsidering this determination, we continue to find that Kunshan Dixon is ineligible for a separate rate.

⁴ See Preliminary Results.

As noted in the Preliminary Results, Commerce's policy regarding conditional review of the China-wide entity applies to this administrative review.⁵ Under this policy, the China-wide entity will not be under review unless a party specifically requests, or Commerce self-initiates, a review of the entity. Because no party requested a review of the China-wide entity, and we did not self-initiate a review, the entity is not under review and the entity's rate is not subject to change.

⁵ See Antidumping Proceedings: Announcement of Change in Department Practice Respondent Selection in Antidumping Duty Proceedings and Conditional Review of the Nonmarket Economy Entity in NME Antidumping Duty Proceedings, 78 FR 65963, 65970 (November 4, 2013).

For a full description of the methodology underlying our conclusions, see Issues and Decision Memorandum.

Assessment Rates

Pursuant to section 751(a)(2)(C) of the Act and 19 CFR 351.212(b), Commerce has determined, and U.S. Customs and Border Protection (CBP) shall assess, antidumping duties on all appropriate entries covered by this review. We intend to issue assessment instructions to CBP 15 days after the publication date of these final results of review. We further intend to instruct CBP to apply an ad valorem assessment rate of 114.90 percent to all entries of subject merchandise during the POR which were exported by Kunshan Dixon.

Cash Deposit Requirements

The following cash deposit requirements will be effective upon publication of these final results of this administrative review for shipments of the subject merchandise from China entered, or withdrawn from warehouse, for consumption on or after the publication date, as provided by section 751(a)(2)(C) of the Act: (1) For previously investigated or reviewed Chinese and non-Chinese exporters not listed above that have separate rates, the cash deposit rate will continue to be the exporter-specific rate published for the most recently completed segment of this proceeding in which they were reviewed; (2) for all Chinese exporters of subject merchandise that have not been found to be entitled to a separate rate, the cash deposit rate will be equal to the weighted-average dumping margin for the China-wide entity which is 114.90 percent; and (3) for all non-Chinese exporters of subject merchandise which have not received their own separate rate, the cash deposit rate will be the rate applicable to the Chinese exporter(s) that supplied that non-Chinese exporter. These cash deposit requirements, effective upon publication of these final results, shall remain in effect until further notice.

Notification to Importers Regarding the Reimbursement of Duties

This notice also serves as a final reminder to importers of their responsibility under 19 CFR 351.402(f)(2) to file a certificate regarding the reimbursement of antidumping duties prior to liquidation of the relevant entries during this POR. Failure to comply with this requirement could result in Commerce's presumption that reimbursement of antidumping duties has occurred and the subsequent assessment of double antidumping duties.

Notification Regarding Administrative Protective Order

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing and publishing these final results of administrative review and notice in accordance with sections 751(a)(1) and 777(i)(1) of the Act and 19 CFR 351.221(b)(5).

Dated: March 23, 2020.
Jeffrey I. Kessler,
Assistant Secretary for Enforcement and Compliance.

Appendix

Issues and Decision Memorandum

I. Summary

II. Background

III. Scope of the Order

IV. Discussion of the Issues

Comment 1: Whether Kunshan Dixon is Subject to Review

Comment 2: Kunshan Dixon's Claim of No Shipments

Comment 3: Whether Commerce Abused its Discretion

V. Recommendation

[FR Doc. 2020-06448 Filed 3-26-20; 8:45 am]

BILLING CODE 3510-DS-P